ENVIRONMENTAL PROTECTION AGENCY

[ER-FRL-9005-5]

Environmental Impacts Statements; Notice of Availability

Responsible Agency: Office of Federal Activities, General Information (202) 564-7146 or http://www.epa.gov/compliance/nepa/.

Weekly receipt of Environmental Impact Statements

Filed 10/01/2012 Through 10/05/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

EIS No. 20120317, Final EIS, USACE, MS, Proposed Widening of the Pascagoula Lower Sound/Bayou Casotte Channel, Jackson County, MS, Review Period Ends: 11/13/2012, Contact: Philip Hegji 251-690-3222.

EIS No. 20120318, Final Supplement, USACE, TX, Clear Creek Reevaluation Study Project, Flood Risk Management and Ecosystem Restoration, Brazoria, Fort Bend, Galveston and Harris Counties, TX, Review Period Ends: 11/13/2012, Contact: Andrea Catanzaro 409-766-6346.

EIS No. 20120319, Draft EIS, NPS, MA, Herring River Restoration Project, In and Adjacent to Cape Cod National Seashore, Towns of Wellfleet and Truro, MA, Comment Period Ends: 12/12/2012, Contact: Mark Husbands 303-987-6965.

EIS No. 20120320, Draft EIS, FTA, MN, Southwest Transitway Construction and Operation Light Rail Transit, Hennepin County, MN, Comment Period Ends: 12/11/2012, Contact: Marisol Simon 312-353-2789.

EIS No. 20120321, Final EIS, BLM, NV, Mount Hope Project, Molybdenum Mining and Processing Operation, Eureka County, NV, Review Period Ends: 11/13/2012, Contact: Gloria Tibbetts 775-635-4060.

EIS No. 20120322, Final EIS, NOAA, 00, Harvest Specifications and Management Measures for the 2013-2014 Pacific Coast Groundfish Fishery and Amendment 21-2 to the Pacific Coast Fishery Management Plan, Federal Waters off the Coast of WA, OR, and CA, Review Period Ends: 11/13/2012, Contact: Becky Renko 206-526-6110.

EIS No. 20120323, Draft Supplement, BLM, NV, Silver State Solar Energy Project, and Proposed Las Vegas Field Office Resource Management Plan Amendment, To Address New Information, Clark County, NV, Comment Period Ends: 01/11/2013, Contact: Greg Helseth 702-515-5173.

EIS No. 20120324, Final EIS, USFS, MT, Lonesome Wood Vegetation Management 2 Project Areas, Lake Ranger District, Gallatin National Forest, Gallatin County, MT, Review Period Ends: 11/26/2012, Contact: Teri Seth 406-522-2520.

EIS No. 20120325, Final EIS, NPS, WA, Stehekin River Corridor Implementation Plan, General Management Plan, Lake Chelan National Recreation Area, North Cascades National Park Service Complex, WA, Review Period Ends: 11/13/2012, Contact: Jon Riedel 360-873-4590 ext. 21.

Amended Notices

EIS No. 20050140, Final EIS, FHWA, NV, Boulder City/U.S. 93 Corridor Transportation Improvements, Study Limits are between a western boundary on US 95 in the City of Henderson and an eastern boundary on US 93 west of downtown Boulder City, NPDES and U.S. Army COE Section 404 Permits Issuance and Right-of-Way Grant, Clark County, NV, Review Period Ends: 05/13/2005, Contact: Ted P. Bendure 775-687-5322.

Adoption—The U.S. Department of Energy's Western Area Power Administration (WAPA) has adopted the U.S. Department of Transportation's Federal Highway Administration's (FHWA) Final EIS filed with EPA. The WAPA was a cooperating agency with the FHWA's EIS therefore, recirculation of the document was not necessary and there is no comment period.

EIS No. 20110106, Draft EIS, BIA, NM, Withdrawn—Pueblo of Jemez 70.277 Acre Fee-To-Trust Transfer and Casino Project, Implementation, Dona Ana County, NM, Comment Period Ends: 07/01/2011, Contact: Priscilla Wade 505-563-3417 Revision to FR Notice Published 06/03/2011; Officially Withdrawn by the Preparing Agency.

Dated: October 9, 2012.
Aimee S. Hessert,
Deputy Director, NEPA Compliance Division, Office of Federal Activities.

[FR Doc. 2012-25154 Filed 10-11-12; 8:45 am]

BILLING CODE 6560-50-P